SECURITIES AND EXCHANGE COMMISSION

[Release No. 34-100487; File No. SR-CBOE-2023-063]

Self-Regulatory Organizations; Cboe Exchange, Inc.; Notice of Withdrawal of a Proposed Rule Change To Amend the Exchange's Rules Relating to Position and Exercise Limits

July 10, 2024.

On November 29, 2023, Cboe Exchange, Inc. (the “Exchange” or “Cboe”) filed with the Securities and Exchange Commission (“Commission”), pursuant to Section 19(b)(1) of the Securities Exchange Act of 1934 (the “Act”),¹ and Rule 19b-4 thereunder,² a proposed rule change to amend its rules relating to position and exercise limits. The proposed rule change was published for comment in the Federal Register on December 14, 2023.³ The Commission has received three comment letters regarding the proposed rule change.⁴ On January 23, 2024, pursuant to Section 19(b)(2) of the Act,⁵ the Commission designated a longer period within which to approve the proposed rule change, disapprove the proposed rule change, or institute proceedings to determine whether to approve or disapprove the proposed rule change.⁶

¹ 15 U.S.C. 78s(b)(1).

² 17 CFR 240.19b-4.

³ See Securities Exchange Act Release No. 99119 (Dec. 8, 2023), 88 FR 86701.

⁴ See letters from: Ellen Greene, Managing Director, Equity and Options Market Structure, Securities Industry and Financial Management Association (“SIFMA”), dated January 26, 2024; and Jiří Król, Deputy CEO, Global Head of Government Affairs, Alternative Investment Management Association (“AIMA”), dated January 14, 2024; and letter from Jennifer W. Han, Executive Vice President, Chief Counsel and Head of Global Regulatory Affairs, Managed Funds Association (“MFA”), dated January 4, 2024. Comment letters on the proposed rule change are available at https://www.sec.gov/comments/sr-cboe-2023-063/srcboe2023063.htm.

⁵ 15 U.S.C. 78s(b)(2).

⁶ See Securities Exchange Act Release No. 99417 (Jan. 23, 2024), 89 FR 5588 (Jan. 29, 2024). The Commission designated March 13, 2024, as the date by which the Commission shall approve or disapprove, or institute proceedings to determine whether to approve or disapprove, the proposed rule change.

On March 12, 2024, the Commission issued an order instituting proceedings pursuant to Section 19(b)(2)(B) of the Act ⁷ to determine whether to approve or disapprove the proposed rule change.⁸ On June 6, 2024, pursuant to Section 19(b)(2) of the Act,⁹ the Commission designated a longer period of time within which to determine whether to approve or disapprove the proposed rule change.¹⁰ On July 3, 2024, the Exchange withdrew the proposed rule change (Cboe-2023-063).

⁷ 15 U.S.C. 78s(b)(2)(B).

⁸ See Securities Exchange Act Release No.99721 (Mar. 12, 2024), 89 FR 19622 (Mar. 19, 2024).

⁹ 15 U.S.C. 78s(b)(2).

¹⁰ See Securities Exchange Act Release No. 34-100292 (Jun. 6, 2024), 89 FR 49945 (Jun. 12, 2024).

For the Commission, by the Division of Trading and Markets, pursuant to delegated authority.¹¹
¹¹ 17 CFR 200.30-3(a)(12).
Vanessa A. Countryman,
Secretary.

[FR Doc. 2024-15501 Filed 7-15-24; 8:45 am]

BILLING CODE 8011-01-P